FEDERAL COMMUNICATIONS COMMISSION

47 CFR Parts 15 and 74

[WT Docket Nos. 08-166, 08-167, and ET Docket No. 10-24; FCC 10-16]

Revisions to Rules Authorizing the Operation of Low Power Auxiliary Stations in the 698-806 MHz Band; Public Interest Spectrum Coalition, Petition for Rulemaking Regarding Low Power Auxiliary Stations, Including Wireless Microphones, and the Digital Television Transition; Public Information Collection Approved by Office of Management and Budget

AGENCY: Federal Communications Commission.

ACTION: Final rule; announcement of effective dates.

SUMMARY: The Federal Communications Commission (FCC) has received Office of Management and Budget (OMB) approval for public information collection 3060-1135 pursuant to the Paperwork Reduction Act of 1995, Public Law 104-13. An agency may not conduct or sponsor and a person is not required to respond to a collection of information unless it displays a currently valid control number. This document announces the effective dates, of the rules previously published in the Federal Register, affected by this public information collection.

DATES: The following rules, originally published in the Federal Register 75 FR 3622, January 22, 2010, have been approved by OMB and are effective as follows: §§ 15.216, 74.802(e)(2) and 74.851(i), effective March 1, 2010; § 74.851(h), effective April 15, 2010.

FOR FURTHER INFORMATION CONTACT: Bill Stafford, Wireless Telecommunications Bureau, (202) 418-0563, e-mail Bill.Stafford@fcc.gov or Hugh L. Van Tuyl, Office of Engineering and Technology, (202) 418-7506, e-mail Hugh.VanTuyl@fcc.gov.

People with Disabilities: To request materials in accessible formats for people with disabilities (braille, large print, electronic files, audio format), send an e-mail to fcc504@fcc.gov or call the Consumer & Governmental Affairs Bureau at 202-418-0530 (voice), 202-418-0432 (tty).

SUPPLEMENTARY INFORMATION:

OMB Control No.: 3060-1135

Expiration Date: 08/31/2010

Title: Revisions to Rules Authorizing the Operation of Low Power Auxiliary Stations (Wireless Microphones).

Estimated Annual Burden: $1,625,000 total annual cost; 32,924 total annual hours.

Needs and Uses: In the Report and Order ¹ in WT Docket No. 08-166, WT Docket No. 08-167, ET Docket No. 10-24, FCC 10-16, adopted January 14, 2010 and released on January 15, 2010, the Federal Communications Commission (“Commission”) modified the rules authorizing the operation of low power auxiliary stations (wireless microphones). The Report and Order requires all wireless microphones to cease operations in the 700 MHz Band (698-806 MHz) no later than June 12, 2010, making the band available for use by public safety entities such as police, fire, emergency services, and commercial licensees. To effectuate the Commission's plan to clear wireless microphones from the 700 MHz Band, the Report and Order provides an early clearing mechanism for the 700 MHz Band; requires that any person who manufactures wireless microphones or sells, leases, or offers them for sale or lease must display a disclosure at the point of sale or lease that informs consumers of the conditions that apply to the operation of wireless microphones in the core TV bands; and requires any person who manufactures, sells, leases, or offers for sale or lease, wireless microphones capable of operating in the 700 MHz Band that are destined for non U.S. markets, to include labeling that makes clear that the devices cannot be operated in the United States. In a related order under delegated authority,² the Wireless Telecommunications Bureau and Consumer and Governmental Affairs Bureau of the Federal Communications Commission have adopted the specific text that must be used in the consumer disclosure at the point of sale.

¹ Revisions to Rules Authorizing the Operation of Low Power Auxiliary Stations in the 698-806 MHz Band; Public Interest Spectrum Coalition, Petition for Rulemaking Regarding Low Power Auxiliary Stations, Including Wireless Microphones, and the Digital Television Transition; Amendment of Parts 15, 74 and 90 of the Commission's Rules Regarding Low Power Auxiliary Stations, Including Wireless Microphones, WT Docket Nos. 08-166, 08-167, ET Docket No. 10-24, Report and Order and Further Notice of Proposed Rulemaking, FCC 10-16 (rel. January 15, 2010); 75 FR 3622 (January 22, 2010).

² Revisions to Rules Authorizing the Operation of Low Power Auxiliary Stations in the 698-806 MHz Band; Public Interest Spectrum Coalition, Petition for Rulemaking Regarding Low Power Auxiliary Stations, Including Wireless Microphones, and the Digital Television Transition; Amendment of Parts 15, 74 and 90 of the Commission's Rules Regarding Low Power Auxiliary Stations, Including Wireless Microphones, WT Docket Nos. 08-166, 08-167, ET Docket No. 10-24, Order, DA 10-92 (rel. January 15, 2010); 75 FR 3639 (January 22, 2010).

On January 22, 2010, the Commission requested emergency approval of the information collection requirements from the Office of Management and Budget (OMB).³ On February 17, 2010, the Commission received OMB approval. The OMB control number for this collection is 3060-1135. This information collection will be used to ensure that these microphones do not continue to be used or continue to be made available for use in the United States in the 700 MHz Band, in contravention of the steps taken by the Commission to make the 700 MHz Band available for use by public safety entities and commercial licensees, and to provide them a home in the core TV spectrum.

³ See Notice of Public Information Collection(s) Being Submitted for Review and Approval to the Office of Management and Budget (OMB), Comments Requested, 75 FR 3731 (January 22, 2010).

Federal Communications Commission.
Gloria J. Miles,
Federal Register Liaison.

[FR Doc. 2010-4265 Filed 2-25-10; 4:15 pm]

BILLING CODE 6712-01-P